OFFICE OF THE UNITED STATES TRADE REPRESENTATIVE

Notice of Continuation and Request for Nominations for the Intergovernmental Policy Advisory Committee on Trade

AGENCY: Office of the United States Trade Representative.

ACTION: Notice and request for applications.

SUMMARY: The Office of the United States Trade Representative (USTR) is establishing a new four-year charter term and accepting applications from qualified individuals interested in serving as a member of the Intergovernmental Policy Advisory Committee on Trade (IGPAC). The IGPAC is a trade advisory committee that provides general policy advice and guidance to the U.S. Trade Representative on trade policy and development matters that have a significant relationship to the affairs of U.S. state and local governments.

DATES: USTR will accept nominations on a rolling basis for membership on the IGPAC for the four-year charter term beginning in April 2022. To ensure consideration before the new charter term, you should submit your application by May 4, 2022.

FOR FURTHER INFORMATION CONTACT: Sophia Sokolowski, Director for Intergovernmental Affairs and Public Engagement, Sophia.P.Sokolowski@ustr.eop.gov, or 202-881-6968.

SUPPLEMENTARY INFORMATION:

1. Background

Section 135(c)(1) of the Trade Act of 1974, as amended (19 U.S.C. 2155(c)(1)), authorizes the President to establish individual general trade policy advisory committees for industry, labor, agriculture, services, investment, defense, small business, and other interests, as appropriate, to provide general policy advice. The President delegated that authority to the U.S. Trade Representative in Executive Order 11846, section 4(d), issued on March 27, 1975. With limited statutory exceptions, the TACA is subject to the provisions of the Federal Advisory Committee Act.

Pursuant to these authorities, the U.S. Trade Representative intends to establish a new four-year charter term for the IGPAC, which will begin in April 2022.

The IGPAC is a discretionary trade advisory committee established to provide general policy advice to the U.S. Trade Representative on trade policy and development matters that have a significant relationship to the affairs of U.S. state and local governments. More specifically, the IGPAC provides general policy advice on issues that may affect U.S. state and local governments including: (1) Negotiating objectives and bargaining positions before entering into trade agreements; (2) the impact of the implementation of trade agreements; (3) matters concerning the operation of any trade agreement once entered into; and (4) other matters arising in connection with the development, implementation, and administration of the trade policy of the United States.

The IGPAC meets as needed, at the call of the U.S. Trade Representative or their designee, or two-thirds of the IGPAC members, depending on various factors such as the level of activity of trade negotiations and the needs of the U.S. Trade Representative.

II. Membership

The IGPAC is composed of not more than 35 members who have expertise in general trade, investment and development issues and are appointed from U.S. states and localities, and other non-Federal governmental entities. Members represent the executive and legislative branches of state, county, and municipal governments and may hold elective or appointive office. Fostering diversity, equity, inclusion and accessibility (DEIA) is one of the top priorities.

The U.S. Trade Representative appoints IGPAC members for a term that will not exceed the duration of this charter. IGPAC members must be able to obtain and maintain a security clearance in order to serve and have access to classified and trade sensitive documents. They must meet the eligibility requirements described below at the time of appointment and at all times during their term of service. Members serve at the discretion of the U.S. Trade Representative. Individuals can be reappointed for any number of terms.

The U.S. Trade Representative is committed to a trade agenda that advances racial equity and supports underserved communities and will seek advice and recommendations on trade policies that eliminate social and economic structural barriers to equality and economic opportunity, and to better understand the projected impact of proposed trade policies on communities of color and underserved communities. The U.S. Trade Representative strongly encourages diverse backgrounds and perspectives and makes appointments to the IGPAC without regard to political affiliation and in accordance with equal opportunity practices that promote diversity, equity, inclusion, and accessibility. USTR strives to ensure balance in terms of sectors, demographics, regional diversity, and other factors relevant to USTR's needs.

IGPAC members serve without either compensation or reimbursement of expenses. Members are responsible for all expenses they incur to attend meetings or otherwise participate in IGPAC activities.

The U.S. Trade Representative appoints IGPAC members to represent the executive and legislative branches of state, county, and municipal governments. USTR's foremost consideration for applicants is their ability to carry out the goals of section 135(c) of the Trade Act of 1974, as amended. Other criteria include the applicant's knowledge of and expertise in international trade issues as relevant to the work of the IGPAC and USTR.

III. Request for Nominations

USTR is soliciting nominations for membership on the IGPAC. To apply for membership, an applicant must meet the following eligibility criteria at the time of application and at all times during their term of service as an IGPAC member:

1. The applicant must be a U.S. citizen.

2. The applicant cannot be a full-time employee of a U.S. governmental entity.

3. The applicant cannot be registered with the U.S. Department of Justice under the Foreign Agents Registration Act.

5. The applicant must be able to obtain and maintain a security clearance.

6. The applicant must represent the executive or legislative branch of a state, county, or municipal government or an organization comprised of or representing these entities.

In order to be considered for IGPAC membership, interested persons should submit the following to Sophia Sokolowski, Director for Intergovernmental Affairs, at Sophia.P.Sokolowski@ustr.eop.gov:

• Name, title, affiliation, and contact information of the individual requesting consideration.

• A letter on the entity's letterhead from the sponsoring executive or legislative branch of a state, county, or municipal government, containing a brief description of the manner in which international trade affects the state, county, or municipality and why USTR should consider the applicant for membership.

• The applicant's personal resume or comprehensive biography.

• An affirmative statement that the applicant and the entity they represent meet all eligibility requirements.

USTR will consider applicants who meet the eligibility criteria in accordance with equal opportunity practices that promote diversity, equity, inclusion, and accessibility, based on the following factors:

• Ability to represent the sponsoring executive or legislative branch of a state, county, or municipal government interests on international trade matters.

• Knowledge of and experience in trade matters relevant to the work of the IGPAC and USTR.

• How they will contribute to trade policies that eliminate social and economic structural barriers to equality and economic opportunity and to understanding of the projected impact of proposed trade policies on communities of color and underserved communities.

• Ensuring that the IGPAC is balanced in terms of points of view, demographics, geography, and entity or organization size.

Sophia Sokolowski,
Director for Intergovernmental Affairs, Office of the United States Trade Representative.

[FR Doc. 2022-07264 Filed 4-5-22; 8:45 am]

BILLING CODE 3290-F2-P